DEPARTMENT OF HEALTH AND HUMAN SERVICES

[Document Identifier: OS-0990-0275]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before February 1, 2019.

ADDRESSES: Submit your comments to Sherrette.Funn@hhs.gov or by calling (202) 795-7714.

FOR FURTHER INFORMATION CONTACT: When submitting comments or requesting information, please include the document identifier 0990-0275-60D, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Implementation of an Electronic Spreadsheet-Based Uniform Data Set for OMH-funded Activities.

Type of Collection: Revision.

OMB No.: 0990-0275; Office of the Secretary, Office of Minority Health.

Abstract: The Office of Minority Health is seeking an approval on a revision to a currently approved collection OMB # 0990-0275. The revised data collection activities seeks to further streamline the current questions grantees are asked by reducing the number of questions, and reduce the cost of the data collection system by using a more cost efficient alternative to the Performance Data System, (PDS) web-based portal. The overall reduction in questions will reduce the number of burden hours on grantees. The movement from a customized web-based portal to reporting using commercial, off-the shelf software (i.e., a spreadsheet) significantly reduces the cost of performance data collection and reporting. To collect program management and performance data for all OMH-funded projects, grantee data collection via the Uniform Data Set, UDS (original data collection system) was first approved by OMB on June 7, 2004 (OMB No. 0990-275).

Need and Proposed Use of the Information: The clearance is needed to continue performance data collection to enable OMH to comply with Federal reporting requirements, monitor, and evaluate performance by enabling the efficient collection of performance-oriented data tied to OMH-wide performance reporting needs. The ability to monitor and evaluate performance in this manner, and to work towards continuous program improvement are basic functions that OMH must be able to accomplish in order to carry out its mandate with the most effective and appropriate use of resources.

Likely Respondents: Respondents for this data collection include the project directors for OMH-funded projects and/or the date entry persons for each OMH-funded project. Affected public includes non-profit institutions, State, Local, or Tribal Governments.

Annualized Burden Hour Table
Forms (If necessary) | Respondents (If necessary) | Number of respondents | Number of responses per respondents | Average burden per response | Total burden hours
Performance Reporting Template | Non-profit institutions, State, Local, or Tribal Governments | 130 | 4 | 45/60 | 390
Total |  | 130 | 4 | 45/60 | 390

Terry Clark,
Paperwork Reduction Act Reports Clearance Officer, Office of the Secretary.

[FR Doc. 2018-26122 Filed 11-30-18; 8:45 am]

BILLING CODE 4150-29-P